DEPARTMENT OF THE INTERIOR

Fish and Wildlife Service

[FWS-R4-ES-2024-N002; FXES11140400000-245-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive written data or comments on the applications by April 17, 2024.

ADDRESSES:

Reviewing Documents: Submit requests for copies of applications and other information submitted with the applications to Karen Marlowe (see FOR FURTHER INFORMATION CONTACT). All requests and comments should specify the applicant name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. Mail: U.S. Fish and Wildlife Service Regional Office, Ecological Services, 1875 Century Boulevard, Atlanta, GA 30345 (Attn: Karen Marlowe, Permit Coordinator).

FOR FURTHER INFORMATION CONTACT: Karen Marlowe, Permit Coordinator, via telephone at 404-679-7097 or via email at karen_marlowe@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a), and the Freedom of Information Act (5 U.S.C. 552).

Background

With some exceptions, the ESA prohibits take of listed species unless a Federal permit is issued that authorizes such take. The definition of “take” in the ESA includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies, and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES065972-4 | U.S. Forest Service; Russellville, AR | Tricolored bat (Perimyotis subflavus) | Ozark-St. Francis National Forests, Arkansas | Presence/probable absence surveys | Enter hibernacula and maternity roost caves; capture, handle, identify, band, radio-tag, and release | Amendment.
PER5292605-0 | Amanda Miller; Winchester, TN | Gray bat (Myotis grisescens), Indiana bat (Myotis sodalis), northern long-eared bat (Myotis septentrionalis), and tricolored bat (Perimyotis subflavus) | Alabama and Tennessee | Presence/probable absence surveys | Capture, handle, identify, band, radio-tag, and release | New.
PER5294766-0 | Braci Gatlin; Moundville, AL | Gray bat (Myotis grisescens), Indiana bat (Myotis sodalis), northern long-eared bat (Myotis septentrionalis), and tricolored bat (Perimyotis subflavus) | Alabama, Georgia, Mississippi, and Tennessee | Presence/probable absence surveys | Capture, handle, identify, band, radio-tag, and release | New.
ES62026D-3 | Catherine Haase, Austin Peay State University; Clarksville, TN | Tricolored bat (Perimyotis subflavus) | Kentucky and Tennessee | Assess bat community structure and habitat use | Capture, handle, identify, band, radio-tag, and release | Amendment.
ES02332D-4 | Michelle Gilley; Mars Hill, NC | Gray bat (Myotis grisescens), Indiana bat (Myotis sodalis), northern long-eared bat (Myotis septentrionalis), tricolored bat (Perimyotis subflavus), Virginia big-eared bat (Corynorhinus (=Plecotus) townsendii virginianus), and Carolina northern flying squirrel (Glaucomys sabrinus coloratus) | Bats: Alabama, Arkansas, Connecticut, Delaware, Georgia, Illinois, Indiana, Iowa, Kansas, Kentucky, Maryland, Massachusetts, Michigan, Minnesota, Mississippi, Missouri, Nebraska, New Hampshire, New Jersey, New York, North Carolina, North Dakota, Ohio, Oklahoma, Pennsylvania, Rhode Island, South Carolina, South Dakota, Tennessee, Vermont, Virginia, West Virginia, Wisconsin, and Wyoming; Carolina northern flying squirrel: North Carolina, Tennessee, and Virginia | Bats: Presence/probable absence surveys, studies to document habitat use, and population monitoring; Carolina northern flying squirrel: Presence/probable absence surveys and studies of home ranges, foraging behaviors, and roost tree preferences | Bats: Capture, handle, identify, band, radio-tag, and release; Carolina northern flying squirrel: Capture, handle, identify, radio-tag, and release | Renewal and amendment.
PER5521520-0 | Sara Jeanine McLaughlin-Johnson; Kingsport, TN | Gray bat (Myotis grisescens), Indiana bat (Myotis sodalis), northern long-eared bat (Myotis septentrionalis), and tricolored bat (Perimyotis subflavus) | Alabama, Georgia, Kentucky, Mississippi, North Carolina, Tennessee, and Virginia | Presence/probable absence surveys | Enter hibernacula and maternity roost caves, capture, handle, identify, band, radio tag, and release | New.
PER0037840-1 | Cara Rogers; Ypsilanti, MI | Gray bat (Myotis grisescens), Indiana bat (Myotis sodalis), and tricolored bat (Perimyotis subflavus) | Alabama, Arkansas, Colorado, Connecticut, Delaware, District of Columbia, Florida, Georgia, Illinois, Indiana, Iowa, Kansas, Kentucky, Louisiana, Maine, Maryland, Massachusetts, Michigan, Minnesota, Mississippi, Missouri, Nebraska, New Hampshire, New Jersey, New Mexico, New York, North Carolina, North Dakota, Ohio, Oklahoma, Pennsylvania, Rhode Island, South Carolina, South Dakota, Tennessee, Texas, Vermont, Virginia, Wisconsin, West Virginia, and Wyoming | Presence/probable absence surveys | Capture with mist nets, handle, identify, band, radio-tag, and release | Amendment.
ES77472C-1 | Streamtechs, LLC; Athens, GA | Amber darter (Percina antesella), blue shiner (Cyprinella caerulea), Cherokee darter (Etheostoma scotti), Conasauga logperch (Percina jenkinsi), Etowah darter (Etheostoma etowahae), and goldline darter (Percina aurolineata) | Georgia | Presence/probable absence surveys | Capture, identify, and release | Renewal.
PER5971699-0 | Theresa Wetzel; Lexington, KY | Gray bat (Myotis grisescens), Indiana bat (Myotis sodalis), northern long-eared bat (Myotis septentrionalis), Ozark big-eared bat (Corynorhinus (=Plecotus) townsendii ingens), tricolored bat (Perimyotis subflavus), and Virginia big-eared bat (Corynorhinus (=Plecotus) townsendii virginianus) | Alabama, Arkansas, Colorado, Connecticut, Delaware, District of Columbia, Florida, Georgia, Illinois, Indiana, Iowa, Kansas, Kentucky, Louisiana, Maine, Maryland, Massachusetts, Michigan, Minnesota, Mississippi, Missouri, Nebraska, New Hampshire, New Jersey, New Mexico, New York, North Carolina, North Dakota, Ohio, Oklahoma, Pennsylvania, Rhode Island, South Carolina, South Dakota, Tennessee, Texas, Vermont, Virginia, Wisconsin, West Virginia, and Wyoming | Presence/probable absence surveys | Enter hibernacula and maternity roost caves; capture, handle, identify, band, radio-tag, collect tissue samples, and release | New.
ES97308A-2 | John Harris; Scott, AR | Arkansas fatmucket (Lampsilis powellii), Curtis pearlymussel (Epioblasma florentina curtisii), fanshell (Cyprogenia stegaria), fat pocketbook (Potamilus capax), Higgins eye (Lampsilis higginsii), Louisiana pearlshell (Margaritifera hembeli), Louisiana pigtoe (Pleurobema riddellii), Neosho mucket (Lampsilis rafinesqueana), Ouachita fanshell (Cyprogenia sp. cf aberti), Ouachita rock pocketbook (Arcidens wheeleri), pink mucket (Lampsilis abrupta), rabbitsfoot (Quadrula cylindrica cylindrica), ring pink (Obovaria retusa), rough pigtoe (Pleurobema plenum), salamander mussel (Simpsonaias ambigua), scaleshell (Leptodea leptodon), sheepnose (Plethobasus cyphyus), snuffbox (Epioblasma triquetra), speckled pocketbook (Lampsilis streckeri), spectaclecase (Cumberlandia monodonta), western fanshell (Cyprogenia aberti), and winged mapleleaf (Quadrula fragosa) | Alabama, Arkansas, Illinois, Indiana, Iowa, Kansas, Kentucky, Louisiana, Michigan, Minnesota, Mississippi, Missouri, Nebraska, New York, Ohio, Oklahoma, Pennsylvania, South Dakota, Tennessee, Texas, Virginia, West Virginia, Wisconsin | Presence/probable absence surveys, population estimate surveys, and DNA sampling | Capture, collect tissue swabs, release, and salvage relic shells | Renewal and amendment.
ES81202C-1 | Michael Maltba; Whitesburg, KY | Gray bat (Myotis grisescens), Indiana bat (Myotis sodalis), northern long-eared bat (Myotis septentrionalis), and tricolored bat (Perimyotis subflavus) | Alabama, Arkansas, Connecticut, Delaware, Florida, Georgia, Illinois, Indiana, Iowa, Kansas, Kentucky, Maryland, Massachusetts, Michigan, Minnesota, Mississippi, Missouri, Nebraska, New Hampshire, New Jersey, New, Mexico, New York, North Carolina, North Dakota, Ohio, Oklahoma, Pennsylvania, Rhode Island, South Carolina, South Dakota, Tennessee, Texas, Vermont, Virginia, West Virginia, Wisconsin, and Wyoming | Enter hibernacula and maternity roost caves, capture, handle, band, radio tag, collect hair samples, wing punch, and light tag | Presence/probable absence surveys and studies to document habitat use | Renewal and amendment.

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

After the comment period closes, we will make decisions regarding permit issuance. If we issue permits to any of the applicants listed above in this notice, we will publish a subsequent notice in the Federal Register. You may locate the notice announcing the permit issuance by searching https://www.regulations.gov for the application number listed above in this document. Type in your search exactly as the application number appears above, with spaces and hyphens as necessary. For example, to find information about the potential issuance of Permit No. PER 1234567-0, you would go to https://www.regulations.gov and put “PER 1234567-0” in the Search field.

Authority

We publish this notice under section 10(c) of the Endangered Species Act of 1973, as amended (16 U.S.C. 1531 et seq.).

Lawrence Williams,
Acting Deputy Assistant Regional Director, Ecological Services, Southeast Region.

[FR Doc. 2024-05708 Filed 3-15-24; 8:45 am]

BILLING CODE 4333-15-P